DEPARTMENT OF COMMERCE

Office of the Secretary

Agency Information Collection Activities; Submission to the Office of Management and Budget (OMB) for Review and Approval; Comment Request; The Pledge to America's Workers Presidential Award Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 31, 2020 (85 FR 17854) during a 60-day comment period. This notice allows for an additional 30 days for public comments.

Agency: National Institute of Standards and Technology, Commerce.

Title: The Pledge to America's Workers Presidential Award Program.

OMB Control Number: 0690-NEW.

Form Number(s): None.

Type of Request: Regular submission (new information collection).

Number of Respondents: 100 per year.

Average Hours per Response: 3 hours.

Annual Burden Hours: 1,000.

Needs and Uses: President Trump has outlined key workforce policy priorities through two Executive Orders. In June 2017, he signed the Presidential Executive Order 13801 Expanding Apprenticeships in America to “provide more affordable pathways to secure, high paying jobs by promoting apprenticeships and effective workforce development programs.” In July 2018, he signed the Executive Order 13845 Establishing the President's National Council for the American Worker as amended by Executive Order 13853 (83 FR 35099 as amended by 83 FR 65073), “to work with private employers, educational institutions, labor unions, other non-profit organizations, and State, territorial, tribal, and local governments to update and reshape our education and job training landscape so that it better meets the needs of American students, workers, and businesses.” The National Council is creating a national workforce strategy in accordance with the Trump Administration's workforce policy priorities and achievements.

In July 2018, President Trump also launched the Pledge to America's Workers, through which companies and trade groups commit to expanding programs that educate, train, and reskill American workers from high-school age to near-retirement. As of March 2020, more than 430 companies, trade associations, and unions have signed the Pledge, contributing to over 15.8 million new education and training opportunities for American students and workers over the next five years.

The Department of Commerce through the National Institute of Standards and Technology's Baldrige Performance Excellence program is creating a new Presidential Award to recognize demonstrated excellence in implementing the Pledge to America's Workers. This program fulfills the requirements of both Executive Orders, each of which called for the creation of programs to recognize excellence in employer training investments. The Department of Commerce will administer the award program, with support from the Department of Labor, on behalf of the National Council for the American Worker.

Affected Public: Business or other for-profit organizations.

Frequency: Annually.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2020-12348 Filed 6-5-20; 8:45 am]

BILLING CODE 3510-13-P